DEPARTMENT OF ENERGY

Federal Energy Regulatory Commission

Combined Notice of Filings #1

Take notice that the Commission received the following electric rate filings:

Docket Numbers: ER12-427-002.

Applicants: Midwest Independent Transmission System Operator, Inc.

Description: Midwest Independent Transmission System Operator, Inc. submits tariff filing per 35: 05-24-12 CMMPA Settlement to be effective 5/24/2012.

Filed Date: 5/24/12.

Accession Number: 20120524-5191.

Comments Due: 5 p.m. ET 6/14/12.

Docket Numbers: ER12-1525-001.

Applicants: NRG Solar Alpine LLC.

Description: Supplement to Application for Market-Based Rate Authority to be effective 6/11/2012.

Filed Date: 5/24/12.

Accession Number: 20120524-5000.

Comments Due: 5 p.m. ET 6/14/12.

Docket Numbers: ER12-1655-000; ER12-1656-000.

Applicants: Lea Power Partners, LLC, Waterside Power, LLC.

Description: Supplemental Notice to Notice of Change in Status of Waterside Power, LLC et al.

Filed Date: 5/24/12.

Accession Number: 20120524-5141.

Comments Due: 5 p.m. ET 6/14/12.

Docket Numbers: ER12-1842-000.

Applicants: The Finerty Group, Inc.

Description: Baseline new to be effective 5/25/2012.

Filed Date: 5/24/12.

Accession Number: 20120524-5138.

Comments Due: 5 p.m. ET 6/14/12.

Docket Numbers: ER12-1843-000.

Applicants: Michigan Electric Transmission Company, LLC.

Description: Certificate of Concurrence to be effective 7/12/2012.

Filed Date: 5/24/12.

Accession Number: 20120524-5142.

Comments Due: 5 p.m. ET 6/14/12.

Docket Numbers: ER12-1844-000.

Applicants: PJM Interconnection, L.L.C.

Description: Ministerial filing to incorporate FERC accepted revisions effective May 15, 2012 to be effective 5/15/2012.

Filed Date: 5/24/12.

Accession Number: 20120524-5144.

Comments Due: 5 p.m. ET 6/14/12.

Docket Numbers: ER12-1845-000.

Applicants: AEP Texas North Company.

Description: TNC-BayWa r.e Mozart, LLC Amd. #1 to IA to be effective 4/26/2012.

Filed Date: 5/24/12.

Accession Number: 20120524-5145.

Comments Due: 5 p.m. ET 6/14/12.

Docket Numbers: ER12-1846-000.

Applicants: Michigan Electric Transmission Company, LLC.

Description: Michigan Electric Transmission Company, LLC submits tariff filing per 35.13(a)(2)(iii: Certificate of Concurrence to be effective 7/10/2012.

Filed Date: 5/24/12.

Accession Number: 20120524-5160.

Comments Due: 5 p.m. ET 6/14/12.

Take notice that the Commission received the following electric securities filings:

Docket Numbers: ES12-31-000.

Applicants: American Transmission Company LLC, ATC Management Inc.

Description: Supplement to Section 204 Application of American Transmission Company LLC, et al.

Filed Date: 5/24/12.

Accession Number: 20120524-5151.

Comments Due: 5 p.m. ET 6/4/12.

Take notice that the Commission received the following electric reliability filings:

Docket Numbers: RD12-3-000.

Applicants: North American Electric Reliability Corporation.

Description: Petition of the North American Electric Reliability Corporation for Approval of Interpretation to Reliability Standard CIP-006—Cyber Security—Physical Security of Critical Cyber Assets.

Filed Date: 5/23/12.

Accession Number: 20120523-5182.

Comment Date: 5 p.m. ET 6/13/12.

Docket Numbers: RR12-10-000.

Applicants: North American Electric Reliability Corporation.

Description: Petition of the North American Electric Reliability Corporation for Approval of Renewals of the Compliance Monitoring, et al.

Filed Date: 05/24/2012.

Accession Number: 20120524-5139.

Comment Date: 5 p.m. ET 6/14/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 25, 2012.
Nathaniel J. Davis, Sr.,
Deputy Secretary.

[FR Doc. 2012-13549 Filed 6-4-12; 8:45 am]

BILLING CODE 6717-01-P